DEPARTMENT OF TRANSPORTATION

Coast Guard

[USCG-2000-7514]

National Preparedness for Response Exercise Program (PREP)

AGENCY: Coast Guard, DOT.

ACTION: Notice of public meeting and request for comments.

SUMMARY: The Coast Guard, the Environmental Protection Agency, the Research and Special Programs Administration and the Minerals Management Service, in concert with the states, the oil industry and concerned citizens, developed the Preparedness for Response Exercise Program (PREP). This notice announces the date, time, and location for the next PREP workshop. Federal, state, and local agencies and the public, are encouraged to participate and provide oral and written comments.

DATES: The meeting will be held on August 29, 2000, from 7:30 a.m. to 5 p.m. Written comments must reach the Docket Management Facility on or before September 15, 2000.

ADDRESSES: The workshop will be held at the U.S. Department of Transportation Nassif Building, Room 2230, 400 Seventh St. SW Washington, DC 20590. To make sure your comments and related materials do not enter the docket more than once, please submit them (labeled with the docket number, USCG 2000-7514) by only one of the following means:

(1) By mail to the Docket Management Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also access the public docket on the Internet at http://dms.dot.gov.

FOR FURTHER INFORMATION CONTACT: For general information regarding the PREP program and the schedule, contact Mr. Bob Pond, Marine Safety and Environmental Protection Directorate, Office of Response, (G-MOR-2), (202) 267-6603.

The 1994 PREP Guidelines are available for downloading from the World Wide Web at http://www.uscg.mil/hq/g-m/nmc/response/#PREP. The PREP Guidelines are also available in hard-copy at no cost by writing or faxing the TASC Dept Warehouse, 3341Q 75th Avenue, Landover, MD 20785, fax: 301-386-5394, stock number—USCG-X0191. The schedule of PREP area exercises is also available at the above website along with an exercise design manual prepared by the Office of Pipeline Safety.

For questions on viewing or submitting material to the docket, call Dorothy Beard, Chief, Dockets, Department of Transportation, phone 202-366-9329.

SUPPLEMENTARY INFORMATION:

Request for Comments

We encourage you to participate in this program assessment by submitting comments and related material. If you do so, please include your name and address, identify the docket number for this notice (USCG-2000-7514), indicate the specific section of this document to which each comment applies, and give the reason for each comment. You may submit your comments and material by mail, delivery, fax, or electronic means to the Docket Management Facility at the address under ADDRESSES; but please submit your comments and material by only one means. If you submit them by mail or delivery, submit them in an unbound format, no larger than 8½ by 11 inches, suitable for copying and electronic filing. If you submit them by mail and would like to know they reached the facility, please enclose a self-addressed, stamped postcard or envelope. We will consider all comments and material received during the comment period. We may change this program in view of the comments.

Background

The Coast Guard, the Environmental Protection Agency (EPA), the Research and Special Programs Administration (RSPA), and the Minerals Management Service (MMS), in concert with the states, the oil industry and concerned citizens, developed the Preparedness for Response Exercise Program (PREP). PREP was developed to establish a workable oil pollution response exercise program, which meets the intent of section 4204(a) of the Oil Pollution Act of 1990. PREP provides a mechanism for compliance with the exercise requirements, while being economically feasible for the government and oil industry to adopt and sustain. Since the inception of PREP, public meetings have been held periodically to assess the continuing vitality of the program. The last meeting, in August of 1997, concluded that no changes were necessary to the program at that time. Since then, several changes have been proposed or implemented which influence the way government and industry prepare for and respond to oil and hazardous substance incidents in the United States. As a result, some changes to the PREP program may be appropriate.

Therefore, the Coast Guard, EPA, RSPA, and MMS are holding a public workshop to conduct an assessment of the current PREP program. At the workshop, each agency will briefly outline its concerns with the current program and solicit participant input on resolution of those concerns, either through amendment of the PREP Guidelines or other means. Other participating stakeholders, including states and industry, will be invited to discuss their concerns as well. The workshop will reaffirm the vitality of the PREP program as it currently exists or identify outstanding concerns and gain commitment on the part of participants to a plan of action to resolve those concerns. It is anticipated that one or more additional workshops may be scheduled in order to resolve any outstanding concerns.

Workshop Agenda

The workshop will address current concerns with PREP, specifically: What should the PREP goals be for the next 5 years? Is the program sufficiently dynamic and robust to address the needs of plan holders, area committees and the response community in general? In order to discuss these issues, we will follow the agenda in Table 1.

BILLING CODE 4910-15-P

BILLING CODE 4910-15-C

Procedure

The meeting will be an informal workshop open to the public. It is intended to bring together people who are knowledgeable about the issues addressed in this notice to assist us in enhancing PREP.

Individuals or groups desiring to make presentations about their concerns during the workshop are asked to notify Mr. Bob Pond at the address or phone number under FOR FURTHER INFORMATION CONTACT, to ensure that all concerns are heard. The agenda for the workshop will be updated as appropriate to reflect concerns identified by other interested parties.

Information on Service for Individuals with Disabilities

For information on facilities or services for individuals with disabilities or to request special assistance at the meeting, contact Mr. Bob Pond at the address or phone number under FOR FURTHER INFORMATION CONTACT as soon as possible.

Dated: June 21 2000.
Joseph J. Angelo,
Acting Assistant Commandant for Marine Safety and Environmental Protection.

[FR Doc. 00-16448 Filed 6-28-00; 8:45 am]

BILLING CODE 4910-15-P